DEPARTMENT OF DEFENSE

Department of the Army

Availabililty for Non-Exclusive, Exclusive, or Partially Exclusive Licensing of U.S. Patent Application Concerning Chimeric Filovirus Glycoprotein

Correction

In notice document 02-19714 appearing on page 50651 in the issue of Monday, August 5, 2002 make the following corrections:

1. On page 50651, in the second column, the subject line is corrected to read as set forth above.

2. On the same page, in the same column, in the second line from the bottom, “submit” should read “subunit”.

[FR Doc. C2-19714 Filed 8-14-02; 10:22 am]

BILLING CODE 1505-01-D

FEDERAL ELECTION COMMISSION

Sunshine Act Notices

Correction

In notice document 02-20210 appearing on page 51583 in the issue of Thursday, August 8, 2002, make the following correction:

On page 51583, in the first column, under STATUS, in the first line, “closed” should read “open”.

[FR Doc. C2-20210 Filed 8-14-02; 10:22 am]

BILLING CODE 1505-01-D

DEPARTMENT OF THE INTERIOR

Fish and Wildlife Service

50 CFR Part 17

1018-AH08

Endangered and Threatened Wildlife and Plants; Designating Critical Habitat for Plant Species from the Island of Molokai, HI

Correction

Proposed rule document 02-20340 was inadvertently published in the Rules and Regulations section in the issue of Monday August 12, 2002, beginning on page 52419. It should have appeared in the Proposed Rules section.

[FR Doc. C2-20340 Filed 8-14-02; 8:45 am]

BILLING CODE 1505-01-D